DEPARTMENT OF THE INTERIOR

Bureau of Land Management

[LLCON05000.L16100000.DU0000; COC 72907]

Notice of Intent To Prepare a Resource Management Plan Amendment and Associated Environmental Assessment for an Alternate Route for the Gateway South Transmission Line at the Colorado/Utah Border

AGENCY: Bureau of Land Management, Interior.

ACTION: Notice of intent.

SUMMARY: In compliance with the National Environmental Policy Act of 1969, as amended, and the Federal Land Policy and Management Act of 1976, as amended, the Bureau of Land Management (BLM) White River Field Office, Meeker, Colorado, intends to prepare a Resource Management Plan (RMP) amendment with an associated Environmental Assessment (EA) for an Alternate Route for the Gateway South Transmission Line at the Colorado/Utah Border. This notice announces the beginning of the scoping process to solicit public comments on the scope of the analysis, including issues and alternatives, and to provide comments on the planning criteria.

DATES: Comments on the planning criteria must be received by January 20, 2022. Information about the project, including issues, alternatives, and the planning criteria, is available on ePlanning at: https://go.usa.gov/xHM8U.

ADDRESSES: You may submit comments on the issues, alternatives, or planning criteria by either of the following methods:

• Online via ePlanning: https://go.usa.gov/xHM8U.

• Mail: ATTN: Heather Sauls, BLM White River Field Office, 220 E Market St., Meeker, CO 81641.

FOR FURTHER INFORMATION CONTACT: Heather Sauls, Planning & Environmental Coordinator; telephone: 970-878-3855; address: 220 E Market St., Meeker, CO 81641; email: hsauls@blm.gov.

Individuals who use a telecommunication device for the deaf (TDD) may call the Federal Relay Service (FRS) at 1-800-877-8339 to contact Ms. Sauls during normal business hours. The FRS is available 24 hours a day, 7 days a week, to leave a message or question. You will receive a reply during normal business hours.

SUPPLEMENTARY INFORMATION:

Purpose and Need for Action

The purpose of this Federal action is to respond to a right-of-way (ROW) application for construction, operation, maintenance, and termination of a proposed transmission line re-route and associated facilities on Federal land. The Applicant is PacifiCorp, doing business as Rocky Mountain Power.

Background

In December 2016, the BLM issued a Record of Decision (ROD) to approve the Energy Gateway South Transmission Line Project (GWS), which includes a 416-mile, single circuit 500-kilovolt (kV) alternating current transmission line that traverses Wyoming, Colorado, and Utah. In January 2017, the BLM issued a 30-year renewable ROW grant to the Applicant for this project and a 10-year ROW grant for temporary construction sites.

The route alignment approved in the ROD follows the Agency Preferred Alternative in the Final Environmental Impact Statement (EIS). The ROD also authorized relocating an approximate 2-mile portion of an existing power line to eliminate multiple line crossings in a short distance and avoid the Raven Ridge Area of Critical Environmental Concern (ACEC). Specifically, the ROD approved relocating the Bears Ears to Bonanza 345 kV transmission line (operated by the Western Area Power Administration (WAPA)) to the north side of the approved GWS ROW.

During public review of the Draft EIS in 2014, WAPA submitted comments related to safety and reliability “since it appears likely that the proposed 500 kV transmission line will intersect and cross [WAPA] facilities and/or share a right-of-way corridor.” Comments focused on the proposed GWS project's potential for interaction with existing WAPA lines, including maintaining electrical safety clearances during construction, structural review of any new structures that would be placed within 100 feet of a WAPA tower foundation, and ensuring uninterrupted access to WAPA structures during construction of the GWS line. The BLM provided a copy of WAPA's comments to the Applicant (GWS Final EIS, Appendix P, page P1-58 to P1-66) and assumed that these issues were resolved.

However, after the BLM issued the ROW grant for the GWS line, the Applicant began detailed engineering designs in preparation for construction of the power line. It became clear that the complexities of moving or crossing the Bears Ears line may have been underestimated, especially when compared to amending the White River RMP to allow for the GWS line to span the Raven Ridge ACEC (from tower locations placed outside of the ACEC).

The Raven Ridge ACEC was designated to provide additional management for special status plant species, remnant vegetation associations, paleontological resources, and fragile soils.

Proposed Action

In March 2021, the Applicant submitted a proposal to the BLM for an alternate route for the GWS line at the Colorado-Utah border. Under this scenario, there would be no change to the location of the existing Bears-Ears line. Rather, approximately 3 miles of the approved GWS line would be re-routed to the south of the Bears-Ears line and span the Raven Ridge ACEC (a shift in the approved ROW alignment to the south).

Possible Alternatives

The analysis in this EA is focused on potential alignments of an approximately 3-mile section of the GWS transmission line at the Colorado-Utah border. The GWS transmission line has not yet been constructed.

Alternative A is the No Action Alternative and would implement the BLM's decision from the ROD for the Energy Gateway South Transmission Project (2016). Under Alternative A, the GWS 500 kV transmission line would be routed around the Raven Ridge ACEC (northwest), and the Bears Ears 345 kV transmission line would be relocated outside of the Raven Ride ACEC to the north of the approved location of the GWS line.

Alternative B is the Applicant's Preferred Alternative. Like Alternative C, there would be no change to the location of the existing Bears-Ears line. Under Alternative B, the GWS line would parallel the Bears-Ears line (to the south) and span the Raven Ridge ACEC. Alternative B would require an amendment to the ROW grant as well as an amendment to the White River RMP since the Raven Ridge ACEC is managed as a ROW exclusion area. The RMP amendment would be to change the management within the ACEC along the proposed GWS ROW corridor from a ROW exclusion area to a ROW avoidance area to allow for the GWS power line to span the Raven Ridge ACEC from tower locations outside of the ACEC. There would be no change to the Raven Ridge ACEC boundary (43 CFR 1610.4-2).

Alternative C would have the GWS line follow an almost identical alignment to what was approved in the ROD, but without moving the Bears-Ears line out of the Raven Ridge ACEC. Thus, Alternative C would require the GWS line to cross the Bears-Ears line at two locations within approximately 1.5 miles, which would result in additional surface disturbance and may require an amendment to the temporary construction ROW.

Lead and Cooperating Agencies

The BLM is the lead Federal agency for the EA. The BLM has invited the following agencies to participate as Cooperating Agencies: U.S. Fish and Wildlife Service, Western Area Power Administration, National Park Service, State of Colorado, State of Utah, Rio Blanco County (Colorado), and Uintah County (Utah). The National Park Service and the State of Colorado declined cooperating agency status due to relatively limited potential impacts to resources of interest.

Responsible Officials

The project area includes the BLM's White River Field Office in Rio Blanco County, Colorado and the Vernal Field Office in Uintah County, Utah.

Since only the White River RMP would require an amendment, the BLM Colorado State Director is the responsible official who will decide whether to amend the 1997 White River RMP to allow the power line to span the Raven Ridge ACEC. After a decision is made concerning the ROW exclusion area, the BLM Wyoming State Director is the responsible official who will decide whether to amend the existing right-of-way grants for the GWS power line (since this is the responsible official who issued the original GWS ROW grants in Wyoming, Colorado, and Utah).

Nature of Decision To Be Made

The BLM will use the analysis in this EA to inform the following: Identification of any significant environmental impacts associated with the proposed action that may warrant further analysis in a Supplemental EIS; the decision on whether to approve or deny the proposed amendment to the White River RMP to allow the GWS power line to span the Raven Ridge ACEC; and the decision on whether to approve or deny the proposed GWS ROW grant amendment.

Preliminary Issues

The BLM has identified the following primary issues to consider in the EA:

• Would moving or crossing the existing Bears Ears to Bonanza 345 kV power line result in service interruptions?

• How would surface-disturbing activities associated with power line construction affect vegetation and noxious/invasive weeds?

• Would power-line construction activities affect habitat for special status plant species?

• How would surface-disturbing activities associated with power-line construction affect scientifically important paleontological resources?

• Would the various power-line alignments affect the resources managed for in the Raven Ridge ACEC?

Permits or Licenses Required

Alternatives B and C would require an amendment to the approved Gateway South ROW grant.

Scoping Process

This Notice of Intent initiates the scoping process, which guides the development of the EA. The BLM is also seeking substantive comments on the planning criteria. It is important that reviewers provide their comments at such times and in such manner that they are useful to the agency's environmental analysis of the proposed re-route of the power line. Therefore, comments should be provided prior to the close of the comment period and should clearly articulate the reviewer's concerns and contentions.

Before including your address, phone number, email address, or other personal identifiable information in your comment, you should be aware that your entire comment, including your personal identifiable information, may be made publicly available at any time, and we cannot guarantee that we will be able to withhold this information from public view.

(Authority: 43 CFR 1610.2(c)).

Jamie E. Connell,
BLM Colorado State Director.

[FR Doc. 2021-27554 Filed 12-20-21; 8:45 am]

BILLING CODE 4310-JB-P